COMMITTEE FOR THE IMPLEMENTATION OF TEXTILE AGREEMENTS

Adjustment of Import Limits and Increase of Base Limits for Certain Cotton and Man-Made Fiber Textile Products Produced or Manufactured in Pakistan

June 30, 2000.

AGENCY: Committee for the Implementation of Textile Agreements (CITA).

ACTION: Issuing a directive to the Commissioner of Customs adjusting limits and increasing base limits.

EFFECTIVE DATE: July 7, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for carryover, carryforward used, swing and the recrediting of unused carryforward.

In a Memorandum of Understanding, dated May 25, 2000, the Governments of the United States and Pakistan agreed to increase the 2000 base limits for Categories 666-P and 666-S. These limits have been decreased by the amount of carryforward used in 1999. Also, swing into Categories 666-P and 666-S from Category 315 is increased, due to the higher base limits they now have.

A description of the textile and apparel categories in terms of HTS numbers is available in the CORRELATION: Textile and Apparel Categories with the Harmonized Tariff Schedule of the United States (see Federal Register notice 64 FR 71982, published on December 22, 1999). Also see 64 FR 68335, published on December 7, 1999.

William J. Dulka,
Acting Chairman, Committee for the Implementation of Textile Agreements.

Committee for the Implementation of Textile Agreements

June 30, 2000.

Commissioner of Customs,

Department of the Treasury, Washington, DC 20229.

Dear Commissioner: This directive amends, but does not cancel, the directive issued to you on December 1, 1999, by the Chairman, Committee for the Implementation of Textile Agreements. That directive concerns imports of certain cotton and man-made fiber textile products, produced or manufactured in Pakistan and exported during the twelve-month period which began on January 1, 2000 and extends through December 31, 2000.

In a Memorandum of Understanding, dated May 25, 2000, the Governments of the United States and Pakistan agreed to increase the 2000 limits for Categories 666-P and 666-S.

Effective on July 7, 2000, you are directed to adjust the limits for the following categories, as provided for under the Uruguay Round Agreement on Textiles and Clothing:

Category | Adjusted twelve-month limit ¹
Specific limits
226/313 | 123,196,058 square meters.
237 | 536,663 dozen.
315 | 86,112,744 square meters.
317/617 | 43,124,336 square meters.
335/635 | 520,387 dozen.
336/636 | 684,608 dozen.
352/652 | 1,141,014 dozen.
359-C/659-C ² | 2,053,826 kilograms.
369-F/369-P ³ | 3,122,624 kilograms.
613/614 | 30,924,911 square meters.
625/626/627/628/629 | 101,182,122 square meters of which not more than 50,591,063 square meters shall be in Category 625; not more than 50,591,063 square meters shall be in Category 626; not more than 50,591,063 square meters shall be in Category 627; not more than 10,467,117 square meters shall be in Category 628; and not more than 50,591,063 square meters shall be in Category 629.
666-P ⁴ | 808,874 kilograms.
666-S ⁵ | 5,076,389 kilograms.
¹ The limits have not been adjusted to account for any imports exported after December 31, 1999.
² Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
³ Category 369-F: only HTS number 6302.91.0045; Category 369-P: only HTS numbers 6302.60.0010 and 6302.91.0005.
⁴ Category 666-P: only HTS numbers 6302.22.1010, 6302.22.1020, 6302.22.2010, 6302.32.1010, 6302.32.1020, 6302.32.2010 and 6302.32.2020.
⁵ Category 666-S: only HTS numbers 6302.22.1030, 6302.22.1040, 6302.22.2020, 6302.32.1030, 6302.32.1040, 6302.32.2030 and 6302.32.2040.

The Committee for the Implementation of Textile Agreements has determined that these actions fall within the foreign affairs exception of the rulemaking provisions of 5 U.S.C. 553(a)(1).

Sincerely,

William J. Dulka,
Acting Chairman, Committee for the Implementation of Textile Agreements.

[FR Doc. 00-17160 Filed 7-6-00; 8:45 am]

BILLING CODE 3510-DR-F